DEPARTMENT OF ENERGY

Federal Energy Regulatory Commission

[Docket No. EL00-67-000]

Strategic Power Management, Inc., Complainant, v. New York Independent System Operator, Respondent; Notice of Filing

April 11, 2000.

Take notice that on April 10, 2000, Strategic Power Management, Inc. (SPM) filed against the New York Independent System Operator, a Complaint Requesting Fast Track Processing and Motion to Consolidate.

A copy of this filing was serviced upon all persons parties reasonably believed to have an interest herein or be affected thereby in accordance with 18 CFR 385.206(c).

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before April 21, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before April 21, 2000.

Linwood A. Watson, Jr.,
Acting Secretary.

[FR Doc. 00-9473 Filed 4-14-00; 8:45 am]

BILLING CODE 6717-01-M